DEPARTMENT OF COMMERCE

Patent and Trademark Office

Agency Information Collection Activities; Submission to the Office of Management and Budget (OMB) for Review and Approval; Comment Request; National Medal of Technology and Innovation Nomination Application

AGENCY: United States Patent and Trademark Office, Department of Commerce.

ACTION: Notice of information collection; request for comment.

SUMMARY: The United States Patent and Trademark Office (USPTO), as required by the Paperwork Reduction Act of 1995, invites comments on the extension of an existing information collection: 0651-0060 (National Medal of Technology and Innovation Nomination Application). The purpose of this notice is to allow 60 days for public comment preceding submission of the information collection to OMB.

DATES: To ensure consideration, comments regarding this information collection must be received on or before April 29, 2024.

ADDRESSES: Interested persons are invited to submit written comments by any of the following methods. Do not submit Confidential Business Information or otherwise sensitive or protected information.

• Email: InformationCollection@uspto.gov. Include “0651-0060 comment” in the subject line of the message.

• Federal eRulemaking Portal: http://www.regulations.gov.

• Mail: Justin Isaac, Office of the Chief Administrative Officer, United States Patent and Trademark Office, P.O. Box 1450, Alexandria, VA 22313-1450.

FOR FURTHER INFORMATION CONTACT: Request for additional information should be directed to Linda Hosler, National Partnerships Team, Office of the Chief Communications Officer, United States Patent and Trademark Office, P.O. Box 1450, Alexandria, VA 22313-1450; by telephone at 571-272-8514; or by email at Linda.Hosler@uspto.gov with “0651-0060 comment” in the subject line. Additional information about this information collection is also available at http://www.reginfo.gov under “Information Collection Review.”

SUPPLEMENTARY INFORMATION:

I. Abstract

The National Medal of Technology and Innovation (NMTI) is the highest honor for technological achievement bestowed by the President of the United States on America's leading innovators. Established by an Act of Congress in 1980, the Medal of Technology was first awarded in 1985.¹ The Medal is awarded annually to individuals, teams (up to four individuals), companies, or divisions of companies. The Medal recognizes outstanding contributions to the nation's economic, environmental, and social well-being through the development and commercialization of technology products, processes and concepts, technological innovation, and development of the nation's technological workforce. By highlighting the national importance for technological innovation, the Medal also seeks to inspire future generations of Americans to prepare for and pursue technical careers to keep America at the forefront of global technology and economic leadership.

¹ https://www.uspto.gov/learning-and-resources/ip-programs-and-awards/national-medal-technology-and-innovation-nmti.

The National Medal of Technology and Innovation Evaluation Committee, a distinguished independent committee appointed by the Secretary of Commerce, reviews and evaluates the merit of all candidates nominated through an open, competitive solicitation process. The committee makes its recommendations for Medal candidates to the Secretary of Commerce who, in turn, makes recommendations to the President for final selection.

This information collection covers data gathered in the NMTI Nomination Application, which the public uses to nominate an individual's, team's, or company's extraordinary leadership and innovation in technological achievement and outstanding contribution to strengthening the nation's technological workforce. The application collects general and biographical information about the nominee, general information about the nominator, and a description of the nominee's contribution/achievements, and must be accompanied by up to six letters of recommendation or support from individuals who have first-hand knowledge of the cited achievement(s).

II. Method of Collection

The information in this information collection can be submitted electronically through the USPTO website via the online portal.²

² https://www.uspto.gov/learning-and-resources/ip-programs-and-awards/national-medal-technology-and-innovation-nmti.

III. Data

OMB Control Number: 0651-0060.

Forms: None.

Type of Review: Extension of a currently approved information collection.

Affected Public: Individuals or households.

Respondent's Obligation: Required to obtain or retain benefits.

Estimated Number of Annual Respondents: 50 respondents.

Estimated Number of Annual Responses: 50 responses.

Frequency: On occasion.

Estimated Time per Response: The USPTO estimates that the responses in this information collection will take the public approximately 40 hours to complete. This includes the time to gather the necessary information, prepare the nomination application, write the recommendations, and submit the nomination to the USPTO.

Estimated Total Annual Respondent Burden Hours: 2,000 hours.

Estimated Total Annual Respondent Hourly Cost Burden: $118,420.

³ The combined average of the hourly rates in the May 2022 Occupational Employment and Wage Statistics, released by the Bureau of Labor Statistics, for:

• professors (physical scientists) (OES 19-2099— https://www.bls.gov/oes/current/oes192099.htm);

• civil engineers (OES 17-2051— https://www.bls.gov/oes/current/oes172051.htm; and

• computer and information research scientists (OES 15-1221— https://www.bls.gov/oes/current/oes151221.htm).

Table 1—Total Burden Hours and Hourly Costs to Individual or Household Respondents
Item No. | Item | Estimated annual respondents | Responses per respondent | Estimated annual responses | Estimated time for response (hours) | Estimated burden (hour/year) | Rate ³ ($/hour) | Estimated annual respondent cost burden
|  | (a) | (b) | (a) × (b) = (c) | (d) | (c) × (d) = (e) | (f) | (e) × (f) = (g)
1 | NMTI Nomination Application | 50 | 1 | 50 | 40 | 2,000 | $59.21 | $118,420
| Totals | 50 |  | 50 |  | 2,000 |  | 118,420

Estimated Total Annual Respondent Non-Hourly Cost Burden: $0. There are no capital start-up, maintenance costs, recordkeeping costs, filing fees, or postage costs associated with this information collection.

IV. Request for Comments

The USPTO is soliciting public comments to:

(a) Evaluate whether the collection of information is necessary for the proper performance of the functions of the Agency, including whether the information will have practical utility;

(b) Evaluate the accuracy of the Agency's estimate of the burden of the collection of information, including the validity of the methodology and assumptions used;

(c) Enhance the quality, utility, and clarity of the information to be collected; and

(d) Minimize the burden of the collection of information on those who are to respond, including through the use of appropriate automated, electronic, mechanical, or other technological collection techniques or other forms of information technology, e.g., permitting electronic submission of responses.

All comments submitted in response to this notice are a matter of public record. USPTO will include or summarize each comment in the request to OMB to approve this information collection. Before including an address, phone number, email address, or other personally identifiable information (PII) in a comment, be aware that the entire comment—including PII—may be made publicly available at any time. While you may ask in your comment to withhold PII from public view, USPTO cannot guarantee that it will be able to do so.

Justin Isaac,
Information Collections Officer, Office of the Chief Administrative Officer, United States Patent and Trademark Office.

[FR Doc. 2024-04118 Filed 2-27-24; 8:45 am]

BILLING CODE 3510-16-P